DEPARTMENT OF ENERGY

Commission to Review the Effectiveness of the National Energy Laboratories

AGENCY: Department of Energy.

ACTION: Notice of Open Meeting.

SUMMARY: This notice announces a teleconference call of the Commission to Review the Effectiveness of the National Energy Laboratories (Commission). The Commission was created pursuant to section 319 of the Consolidated Appropriations Act, 2014, Public Law 113-76, and in accordance with the provisions of the Federal Advisory Committee Act (FACA), as amended, 5 U.S.C., App. 2. This notice is provided in accordance with the Act.

DATES: Friday, October 23, 2015 from 1:00 p.m.-2:00 p.m. (ET). To receive the call-in number and passcode, please contact the Commission's Designated Federal Officer (DFO) at the address or phone number listed below.

FOR FURTHER INFORMATION CONTACT: Karen Gibson, Designated Federal Officer, U.S. Department of Energy, 1000 Independence Avenue SW., Washington, DC 20585; telephone: (202) 586-3787; email: crenel@hq.doe.gov.

SUPPLEMENTARY INFORMATION:

Background

The Commission was established to provide advice to the Secretary on the Department's national laboratories. The Commission will review the DOE national laboratories for alignment with the Department's strategic priorities, clear and balanced missions, unique capabilities to meet current energy and national security challenges, appropriate size to meet the Department's energy and national security missions, and support of other Federal agencies. The Commission will also look for opportunities to more effectively and efficiently use the capabilities of the national laboratories and review the use of laboratory directed research and development (LDRD) to meet the Department's science, energy, and national security goals. The Commission will report its findings and conclusions to the Secretary of Energy and the Committees on Appropriations of the House of Representatives and the Senate.

The draft Final Report of the Lab Commission has been posted to the Commission's Web site (http://energy.gov/labcommission). A public comment period is now open through September 25, 2015. Individuals and representatives of organizations who would like to offer written comments and suggestions may do so by emailing crenel@hq.doe.gov no later than September 25, 2015.

Purpose of the Meeting: This meeting is the final public meeting of the Commission.

Tentative Agenda: The meeting will start at 1:00 p.m. on October 23, 2015. The tentative meeting agenda includes discussion on the draft Final Report of the Commission. The Commissioners will address comments they have received on the report and hear any additional comments from members of the public on the Conference Call. The meeting will conclude at 2:00 p.m. Agenda updates or changes will be posted on the Lab Commission's Web site: http://energy.gov/labcommission.

Public Participation: The meeting is open to the public. Individuals who would like to participate in the teleconference must RSVP to Karen Gibson no later than 12:00 noon on Thursday, October 22, 2015 at crenel@hq.doe.gov. Please provide your name, organization, contact information, and indicate if you wish to offer comments on the report during the teleconference. You will be provided with the call-in number and passcode.

Individuals and representatives of organizations who would like to offer comments may do so in writing by emailing: crenel@hq.doe.gov no later than September 25th, or may do so verbally during the October 23rd Conference Call. Time allotted per speaker will depend on the number who wish to speak but will not exceed 5 minutes. The Designated Federal Officer is empowered to conduct the meeting in a fashion that will facilitate the orderly conduct of business.

Minutes: The minutes of the meeting will be available on the Commission's Web site at: http://energy.gov/labcommission.

Issued in Washington, DC, on September 18, 2015.
LaTanya R. Butler,
Deputy Committee Management Officer.

[FR Doc. 2015-24285 Filed 9-23-15; 8:45 am]

BILLING CODE 6450-01-P